DEPARTMENT OF TRANSPORTATION

Federal Aviation Administration

14 CFR Part 39

[Docket No. FAA-2021-0195; Project Identifier MCAI-2020-00262-R; Amendment 39-21624; AD 2021-13-19]

RIN 2120-AA64

Airworthiness Directives; Airbus Helicopters

AGENCY: Federal Aviation Administration (FAA), DOT.

ACTION: Final rule.

SUMMARY: The FAA is superseding Airworthiness Directive (AD) 2014-11-02 for Airbus Helicopters Model SA-365N, SA-365N1, AS-365N2, and AS 365 N3 helicopters. AD 2014-11-02 required repetitively inspecting frame number (No.) 9 for a crack. This AD was prompted by Airbus Helicopters developing a modification that provides an optional terminating action for the repetitive inspections required by AD 2014-11-02. This AD retains the requirements of AD 2014-11-02, provides an optional terminating action for the repetitive inspections, and reduces the applicability by excluding certain post-modified helicopters. The FAA is issuing this AD to address the unsafe condition on these products.

DATES: This AD is effective August 17, 2021.

The Director of the Federal Register approved the incorporation by reference of a certain publication listed in this AD as of August 17, 2021.

ADDRESSES: For service information identified in this final rule, contact Airbus Helicopters, 2701 North Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110. Service information that is incorporated by reference is also available at https://www.regulations.gov by searching for and locating Docket No. FAA-2021-0195.

Examining the AD Docket

You may examine the AD docket at https://www.regulations.gov by searching for and locating Docket No. FAA-2021-0195; or in person at Docket Operations between 9 a.m. and 5 p.m., Monday through Friday, except Federal holidays. The AD docket contains this final rule, the European Union Aviation Safety Agency (EASA) AD, any comments received, and other information. The address for Docket Operations is U.S. Department of Transportation, Docket Operations, M-30, West Building Ground Floor, Room W12-140, 1200 New Jersey Avenue SE, Washington, DC 20590.

FOR FURTHER INFORMATION CONTACT: Matt Fuller, AD Program Manager, General Aviation & Rotorcraft Unit, Airworthiness Products Section, Operational Safety Branch, FAA, 10101 Hillwood Pkwy., Fort Worth, TX 76177; telephone (817) 222-5110; email matthew.fuller@faa.gov.

SUPPLEMENTARY INFORMATION:

Background

The FAA issued a notice of proposed rulemaking (NPRM) to amend 14 CFR part 39 to supersede AD 2014-11-02, Amendment 39-17852 (79 FR 33050, June 10, 2014) (AD 2014-11-02). AD 2014-11-02 applied to Airbus Helicopters (previously Eurocopter France) Model SA-365N, SA-365N1, AS-365N2, and AS 365 N3 helicopters. The NPRM published in the Federal Register on April 22, 2021 (86 FR 21231). The NPRM proposed to continue to require, for helicopters that have a No. 9 frame that has had any repair or alteration made, within 10 hours time-in-service (TIS) after the effective date of the AD and at intervals not to exceed 110 hours TIS thereafter, inspecting the LH and RH frame No. 9 for a crack in the areas of the latch support and stretcher support with a 10X or higher power magnifying glass. For all other helicopters, the NPRM proposed to require the inspection within 110 hours TIS after the effective date of the AD and thereafter at intervals not to exceed 110 hours TIS. If there is a crack, the NPRM proposed to continue to require, before further flight, repairing the crack. The NPRM also proposed to provide an optional terminating action for the repetitive inspections that would consist of installing Eurocopter modification (MOD) 53C17 or MOD 53D02, or Airbus Helicopters MOD 07 53D21 or MOD 07 53D22, as applicable to your helicopter.

The NPRM was prompted by EASA AD 2012-0108R1, dated September 19, 2019 (EASA AD 2012-0108R1), issued by EASA, which is the Technical Agent for the Member States of the European Union, to correct an unsafe condition for certain Airbus Model helicopters except those that have been modified by Eurocopter MOD 53C17 or MOD 53D02, or Airbus Helicopters (AH) MOD 07 53D21 or MOD 07 53D22. EASA AD 2012-0108R1 revises EASA AD 2012-0108-E, dated June 15, 2012 (EASA AD 2012-0108-E), which was issued after a crack was discovered during the “T” inspection of an AS365 helicopter. The crack started at a rivet hole of a doubler that was installed on the frame No. 9 in accordance with Eurocopter Alert Service Bulletin No. 53.00.42, dated January 31, 2001. EASA stated in EASA AD 2012-0108-E that structural alteration of frame No. 9 by modifications or repairs can result in fatigue crack initiation under normal operational loads. According to EASA, this condition, if not corrected, could lead to crack propagation and failure of frame No. 9, which would adversely affect the structural integrity of the helicopter. For these reasons, EASA AD 2012-0108-E required repetitive inspections of frame No. 9 for a crack in the area of the doubler or any repair performed in the area of the latch support and stretcher support. EASA advises in EASA AD 2012-0108R1 that Airbus Helicopters developed MOD 07 53D21 and MOD 07 53D22. Consequently, EASA AD 2012-0108R1 was issued to introduce the MODs as optional terminating action for the repetitive inspections, reduce the applicability by excluding certain post-MOD helicopters, and make some editorial changes that do not affect the required actions.

Discussion of Final Airworthiness Directive

Comments

The FAA received no comments on the NPRM nor on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

Airbus Helicopters has co-published as one document Emergency Alert Service Bulletin EASB No. 05.00.63, Revision 2, dated December 20, 2018 (EASB 05.00.63 Rev 2), for Model AS365-series helicopters and EASB No. 05.00.30, Revision 2, dated December 20, 2018 (EASB 05.00.30 Rev 2), for non-FAA type certificated Model AS565-series helicopters. EASB 05.00.63 Rev 2 is incorporated by reference in this AD; EASB 05.00.30 Rev 2 is not.

EASB 05.00.63 Rev 2 applies to helicopters with a frame No. 9 that has not been modified by MOD 07 53C17, 07 53D21, 07 53D22, or 07 53D02, and that has had doublers installed or repairs performed in accordance with certain service instructions. EASB 05.00.63 Rev 2 describes procedures for inspecting the frame No. 9 for a crack and specifies contacting Airbus Helicopters for further procedures if there is a crack.

This service information is reasonably available because the interested parties have access to it through their normal course of business or by the means identified in the ADDRESSES section.

Other Related Service Information

The FAA reviewed Airbus Helicopters Service Bulletin SB No. AS365-53.00.57, Revision 0, dated December 20, 2018 (SB AS365-53.00.57), for Model AS365-series helicopters. SB AS365-53.00.57 specifies replacing the upper section of the No. 9 frame with a reinforced version as an option to terminate the visual inspections specified in EASB 05.00.63 Rev 2.

The FAA also reviewed Eurocopter Emergency Alert Service Bulletin EASB No. 05.00.63, Revision 1, dated June 18, 2012 (EASB 05.00.63 Rev 1). EASB 05.00.63 Rev 1 specifies the same procedures as EASB 05.00.63 Rev 2; however, EASB 05.00.63 Rev 2 excludes helicopters with certain MODs installed from its effectivity.

Differences Between This AD and the EASA AD

EASA AD 2012-0108R1 requires contacting Airbus Helicopters for repair instructions if there is a crack; this AD does not. EASA AD 2012-0108R1 applies to Airbus Helicopters Model 365-series helicopters with a frame No. 9 on which certain doublers or repairs have been accomplished; this AD applies to those model helicopters regardless of if those doublers or repairs have been accomplished.

Costs of Compliance

The FAA estimates that this AD affects 33 helicopters of U.S. Registry. The FAA estimates that operators may incur the following costs in order to comply with this AD. At an average labor rate of $85 per hour, inspecting the LH and RH frame No. 9 takes about 3 work-hours, for a cost per helicopter of $255 and a total cost to U.S. operators of $8,415 per inspection cycle. Repairing a cracked frame No. 9 takes about 20 work-hours, and required parts cost about $15,000, for a cost per helicopter of $16,700.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-11-02, Amendment 39-17852 (79 FR 33050, June 10, 2014); and

b. Adding the following new AD:

2021-13-19 Airbus Helicopters: Amendment 39-21624; Docket No. FAA-2021-0195; Project Identifier MCAI-2020-00262-R.

(a) Applicability

This airworthiness directive (AD) applies to Airbus Helicopters Model SA-365N, SA-365N1, AS-365N2, and AS 365 N3 helicopters, certificated in any category, except helicopters with Eurocopter modification (MOD) 53C17 or MOD 53D02, or Airbus Helicopters MOD 07 53D21 or MOD 07 53D22, installed.

(b) Unsafe Condition

This AD defines the unsafe condition as a crack in frame number (No.) 9, which if not detected and corrected, could result in failure of frame No. 9, loss of structural integrity, and subsequent loss of control of the helicopter.

(c) Affected ADs

This AD replaces AD 2014-11-02, Amendment 39-17852 (79 FR 33050, June 10, 2014).

(d) Effective Date

This AD is effective August 17, 2021.

(e) Compliance

You are responsible for performing each action required by this AD within the specified compliance time unless it has already been accomplished prior to that time.

(f) Required Actions

(1) For helicopters that have any repair or alteration to the frame No. 9, within 10 hours time-in-service (TIS) after the effective date of this AD and thereafter at intervals not to exceed 110 hours TIS, using a 10X or higher power magnifying glass, inspect the left-hand (LH) and right-hand (RH) frame No. 9 for a crack in the area of the latch support and stretcher support, as depicted in Figure 1 of Airbus Helicopters Emergency Alert Service Bulletin EASB No. 05.00.63, Revision 2, dated December 20, 2018 (EASB 05.00.63).

(2) For all other helicopters, within 110 hours TIS after the effective date of this AD and thereafter at intervals not to exceed 110 hours TIS, perform the inspection in paragraph (f)(1) of this AD.

(3) If there is a crack, before further flight, repair the frame No. 9. Repairing a frame is not terminating action for the repetitive inspections required by paragraphs (f)(1) and (2) of this AD.

(4) As an optional terminating action for the repetitive inspections required by paragraphs (f)(1) and (2) of this AD, replace the upper section of frame No. 9 with a reinforced frame, Eurocopter MOD 53C17 or MOD 53D02, or Airbus Helicopters MOD 07 53D21 or MOD 07 53D22.

(g) Special Flight Permits

Special flight permits to a repair facility may be issued provided that the flight does not exceed 10 hours TIS, any crack does not exceed a maximum crack length of 80 mm, and no passengers are onboard.

(h) Credit for Previous Actions

You may take credit for the actions required by paragraphs (f)(1) and (2) of this AD if you performed them before the effective date of this AD using Eurocopter Emergency Alert Service Bulletin EASB No. 05.00.63, Revision 1, dated June 18, 2012.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch office, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Matthew Fuller, AD Program Manager, General Aviation & Rotorcraft Unit, Airworthiness Products Section, Operational Safety Branch, FAA, 10101 Hillwood Pkwy., Fort Worth, TX 76177; telephone (817) 222-5110; email matthew.fuller@faa.gov.

(2) Eurocopter Emergency Alert Service Bulletin EASB No. 05.00.63, Revision 1, dated June 18, 2012, which is not incorporated by reference, contains additional information about the subject of this AD. This service information is available at the contact information specified in paragraphs (l)(3) and (4) of this AD.

(3) The subject of this AD is addressed in European Union Aviation Safety Agency (EASA) AD 2012-0108R1, dated September 19, 2019. You may view the EASA AD on the internet at https://www.regulations.gov in Docket No. FAA-2021-0195.

(k) Subject

Joint Aircraft Service Component (JASC) Code: 5300, Fuselage Structure.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin EASB No. 05.00.63, Revision 2, dated December 20, 2018.

(ii) [Reserved]

Note 1 to paragraph (l)(2)(ii): Airbus Helicopters Emergency Alert Service Bulletin EASB No. 05.00.63, Revision 2, dated December 20, 2018 is co-published as one document along with Airbus Helicopters Emergency Alert Service Bulletin EASB No. 05.00.30, Revision 2, dated December 20, 2018, which is not incorporated by reference in this AD.

(3) For service information identified in this AD, contact Airbus Helicopters, 2701 North Forum Drive, Grand Prairie, TX 75052; telephone (972) 641-0000 or (800) 232-0323; fax (972) 641-3775; or at https://www.airbus.com/helicopters/services/technical-support.html.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fedreg.legal@nara.gov, or go to: https://www.archives.gov/federal-register/cfr/ibr-locations.html.

Issued on June 17, 2021.
Lance T. Gant,
Director, Compliance & Airworthiness Division, Aircraft Certification Service.

[FR Doc. 2021-14777 Filed 7-12-21; 8:45 am]

BILLING CODE 4910-13-P